DEPARTMENT OF EDUCATION

National Advisory Committee on Institutional Quality and Integrity (National Advisory Committee); Meeting

AGENCY: National Advisory Committee on Institutional Quality and Integrity, Department of Education.

What Is the Purpose of This Notice?

The purpose of this notice is to announce the public meeting of the National Advisory Committee and invite third-party oral presentations before the Committee. This notice also presents the proposed agenda and informs the public of its opportunity to attend this meeting. The notice of this meeting is required under section 10(a)(2) of the Federal Advisory Committee Act.

When and Where Will the Meeting Take Place?

We will hold the public meeting on December 11-13, 2000 from 9:30 a.m. until 6:00 p.m. at the Ritz Carlton Hotel at Pentagon City, 1250 South Hayes Street, Arlington, Virginia 22202. You may call the hotel on (703) 415-5000 to inquire about rooms.

What Access Does the Hotel Provide for Individuals with Disabilities?

The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Who Is the Contact Person for the Meeting?

Please contact Ms. Bonnie LeBold, who is the Executive Director of the National Advisory Committee on Institutional Quality and Integrity, if you have questions about the meeting. You may contact her at the U.S. Department of Education, Room 7007-MS 7592, 1990 K St. N.W., Washington, D.C. 20006, telephone: (202) 219-7009, fax: (202) 219-7008, e-mail: Bonnie_LeBold@ed.gov. Individuals who use a telecommunications device for the deaf (TDD) may call the Federal Information Relay Service at 1-800-877-8339.

What Is the Authority for the National Advisory Committee?

The National Advisory Committee on Institutional Quality and Integrity is established under Section 114 of the Higher Education Act (HEA) as amended, 20 U.S.C. 1011c.

What are the Functions of the National Advisory Committee?

The Committee advises the Secretary of Education about:

• The establishment and enforcement of the criteria for recognition of accrediting agencies or associations under subpart 2 of part H of Title IV, HEA.

• The recognition of specific accrediting agencies or associations.

• The preparation and publication of the list of nationally recognized accrediting agencies and associations.

• The eligibility and certification process for institutions of higher education under Title IV, HEA.

• The development of standards and criteria for specific categories of vocational training institutions and institutions of higher education for which there are no recognized accrediting agencies, associations, or State agencies in order to establish the interim eligibility of those institutions to participate in Federally funded programs.

• The relationship between: (1) accreditation of institutions of higher education and the certification and eligibility of such institutions, and (2) State licensing responsibilities with respect to such institutions.

• Any other advisory functions relating to accreditation and institutional eligibility that the Secretary may prescribe.

What Items Will be on the Agenda for Discussion at the Meeting?

Agenda topics will include an update on the Title IV Distance Education Demonstration Program, a panel discussion by Federal and higher education agency representatives on transfer of credit issues, the review of agencies that have submitted petitions for initial recognition or renewal of recognition, and the review of agencies that have submitted interim reports.

What Agencies Will the Advisory Committee Review at the Meeting?

The Advisory Committee will review the following agencies during its December 11-13, 2000 meeting.

Nationally Recognized Accrediting Agencies

Petition for Initial Recognition

1. Midwifery Education Accreditation Commission (Requested scope of recognition: the accreditation and preaccreditation of direct-entry (non-nurse) midwifery certificate and undergraduate and graduate degree educational programs and institutions offering those types of programs)

Petitions for Renewal of Recognition

1. American Association for Marriage and Family Therapy, Commission on Accreditation for Marriage and Family Therapy Education (Current scope of recognition: the accreditation of clinical training programs in marriage and family therapy at the master's, doctoral, and postgraduate levels. Requested scope of recognition: the current scope of recognition plus the preaccreditation of clinical training programs in marriage and family therapy at the master's, doctoral, and postgraduate levels [“Candidacy”] of programs)

2. American Bar Association, Council of the Section of Legal Education and Admissions to the Bar (Requested scope of recognition: the accreditation of programs in legal education that lead to the first professional degree in law, as well as freestanding law schools offering such programs)

3. Accreditation Commission for Acupuncture and Oriental Medicine (Requested scope of recognition: the accreditation of first-professional master's degree and professional master's level certificate and diploma programs in acupuncture and Oriental medicine)

4. Accrediting Commission on Education for Health Services Administration (Requested scope of recognition: the accreditation of graduate programs in health services administration)

5. American Osteopathic Association, Bureau of Professional Education (Requested scope of recognition: the accreditation and preaccreditation [“Provisional Accreditation”] of freestanding institutions of osteopathic medicine and programs leading to the degree of Doctor of Osteopathy or Doctor of Osteopathic Medicine)

6. American Podiatric Medical Association, Council on Podiatric Medical Education (Requested scope of recognition: the accreditation and preaccreditation [“Candidate Status”] of freestanding colleges of podiatric medicine and programs of podiatric medicine, including first professional programs leading to the degree of Doctor of Podiatric Medicine)

7. Council on Occupational Education (Requested scope of recognition: the accreditation and preaccreditation [“Candidate for Accreditation”] of non-degree granting postsecondary occupational/vocational institutions and those postsecondary occupational/vocational education institutions that grant the applied associate degree in specific vocational/occupational fields)

8. National Council for Accreditation of Teacher Education (Requested scope of recognition: the accreditation of professional education units providing baccalaureate and graduate degree programs for the preparation of teachers and other professional personnel for elementary and secondary schools)

9. New York State Board of Regents (Current scope of recognition: the accreditation [registration] of collegiate degree-granting programs or curricula offered by institutions of higher education located in the State of New York and of credit-bearing certificate and diploma programs offered by degree-granting institutions of higher education located in the State of New York. Requested scope of recognition: the preaccreditation and accreditation of those degree-granting institutions in New York State that designate the Board of Regents as their sole nationally recognized accrediting agency or as their primary nationally recognized accrediting agency for purposes of establishing eligibility for HEA Title IV funds)

10. North Central Association of Colleges and Schools, Executive Board of the Commission on Schools (Requested scope of recognition: the accreditation and preaccreditation [“Candidate for Accreditation”] of schools offering non-degree, postsecondary education in Arizona, Arkansas, Colorado, Illinois, Indiana, Iowa, Kansas, Michigan, Minnesota, Missouri, Nebraska, New Mexico, North Dakota, Ohio, Oklahoma, South Dakota, West Virginia, Wisconsin, Wyoming, and the Navajo Nation.

Interim Reports (An interim report is a follow-up report on an accrediting agency's compliance with specific criteria for recognition that was requested by the Secretary when the Secretary granted renewed recognition to the agency.)

1. Accreditation Board for Engineering and Technology, Inc.

2. Accrediting Council for Continuing Education and Training

3. Accreditation Commission of Career Schools and Colleges of Technology

4. Association for Clinical Pastoral Education, Inc.

5. Association of Theological Schools in the United States and Canada, Commission on Accrediting

6. Montessori Accreditation Council for Teacher Education, Commission on Accreditation

7. North Central Association of Colleges and Schools, Commission on Institutions of Higher Education

8. New England Association of Schools and Colleges, Commission on Institutions of Higher Education

9. Northwest Association of Schools and Colleges, Commission on Colleges

10. Western Association of Schools and Colleges, Accrediting Commission for Community and Junior Colleges

11. Western Association of Schools and Colleges, Accrediting Commission for Schools

State Agencies Recognized for the Approval of Public Postsecondary Vocational Education

Petition for Renewal of Recognition

1. Oklahoma State Regents for Higher Education

Interim Report

1. Missouri State Board of Education

State Agencies Recognized for the Approval of Nurse Education

Interim Report

1. Missouri State Board of Nursing

2. New Hampshire Board of Nursing

Who Can Make Third-Party Oral Presentations at this Meeting?

We invite you to make a third-party oral presentation before the National Advisory Committee concerning the recognition of any agency published in this notice.

How Do I Request to Make an Oral Presentation?

You must submit a written request to make an oral presentation concerning an agency listed in this notice to the contact person so that the request is received no later than November 16, 2000. Your request (no more than 6 pages maximum) should include:

—the names of all persons seeking an appearance,

—the organization they represent, and

—a brief summary of the principal points to be made during the oral presentation.

If you wish, you may attach documents illustrating the main points of your oral testimony. Please keep in mind, however, that any attachments are included in the 6-page limit.

Please do not distribute written materials at the meeting or send materials directly to Committee members.

Only materials submitted by the deadline and in accordance with these instructions become part of the official record and are considered by the Committee in its deliberations. Documents received after the November 16, 2000 deadline will not be distributed to the Advisory Committee for their consideration.

If I Cannot Attend the Meeting, Can I Submit Written Comments Regarding an Accrediting Agency in Lieu of Making an Oral Presentation?

This notice requests third-party oral testimony, not written comment. A request for written comments on agencies that are being reviewed during this meeting was published in the Federal Register on June 13, 2000. The Advisory Committee will receive and consider only written comments submitted by the deadlines specified in that Federal Register notice.

How Do I Request to Present Comments Regarding General Issues Rather Than Specific Accrediting Agencies?

At the conclusion of the meeting, the Committee, at its discretion, may invite attendees to address the Committee briefly on issues pertaining to the functions of the Committee, which are listed earlier in this notice. If you are interested in making such comments, you should inform Ms. LeBold before or during the meeting.

How May I Obtain Access to the Records of the Meeting?

We will record the meeting and make a transcript available for public inspection at the U.S. Department of Education, Room 7105, 1990 K St. N.W., Washington, D.C. 20006 between the hours of 9:00 a.m. and 4:30 p.m., Monday through Friday, except Federal holidays. It is preferred that an appointment be made in advance of such inspection.

What Agencies Will be Postponed for Review until the May 2001 Meeting?

The agency listed below, which was originally scheduled for review during the Committee's December 2000 meeting, will be postponed for review until the Committee's May 2001 meeting. Any third-party written comments regarding these agencies that were received by July 28, 2000, in accordance with the Federal Register notice published on June 13, 2000, will become part of the official record and will be considered by the Committee in its deliberations at the May 2001 meeting. There will be another opportunity to provide written comments on this agency next winter; a Federal Register notice requesting comments on all agencies scheduled for review at the May 2001 meeting will be published in January 2001.

Nationally Recognized Accrediting Agencies

Petition for Initial Recognition

1. Teacher Education Accreditation Council (Requested scope of recognition: the accreditation of professional education programs in institutions offering baccalaureate and graduate degrees for the preparation of teachers and other professional personnel for elementary and secondary schools)

Authority: 5 U.S.C. Appendix 2

A. Lee Fritschler,
Assistant Secretary for Postsecondary Education.

[FR Doc. 00-24662 Filed 9-25-00; 8:45 am]

BILLING CODE 4000-01-P